NUCLEAR REGULATORY COMMISSION

[NRC-2017-0130]

Qualification of Safety-Related Lead Storage Batteries for Nuclear Power Plants

AGENCY: Nuclear Regulatory Commission.

ACTION: Regulatory guide; issuance.

SUMMARY: The U.S. Nuclear Regulatory Commission (NRC) is issuing Revision 1 to Regulatory Guide (RG) 1.158, “Qualification of Safety-Related Vented Lead-Acid Storage Batteries for Nuclear Power Plants.” RG 1.158 endorses (with clarifying regulatory positions) the Institute of Electrical and Electronics Engineers (IEEE) Standard (Std.) 535-2013, “IEEE Standard for Qualification of Class 1E Vented Lead Acid Storage Batteries for Nuclear Power Generating Stations.” IEEE 535-2013 contains procedures for qualifying batteries with duty cycles of less than 8 hours and also for batteries with duty cycles longer than 8 hours.

DATES: Revision 1 to RG 1.158 is available on March 12, 2018.

ADDRESSES: Please refer to Docket ID NRC-2017-0130 when contacting the NRC about the availability of information regarding this document. You may obtain publicly-available information related to this document using any of the following methods:

• Federal Rulemaking website: Go to http://www.regulations.gov and search for Docket ID NRC-2017-0130. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Lilliana Ramadan, telephone: 301-415-2463, email: Liliana.Ramadan@nrc.gov, or Stephen Burton, telephone: 301-415-7000, email: Stephen.Burton@nrc.gov. Both are staff of the Office of Nuclear Regulatory Research, U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 1 of RG 1.158 was issued with a temporary identification of Draft Regulatory Guide, DG-1338. This revision provides updated guidance on the methods and type-test procedures for two different battery applications. One application is for batteries with duty cycles equal to or less than 8 hours and the other application is for batteries with duty cycles longer than 8 hours. The 2013 revision of IEEE Std. 535 provides a qualification process for both applications to ensure battery performance and provides a normative annex with example testing regimens. The NRC staff determined that RG 1.158 should be revised to endorse the 2013 version of IEEE Std. 535 to support new reactor license applications, design certifications, and applications for license amendments.

II. Additional Information

The NRC published a notice of the availability of DG-1338 in the Federal Register on May 31, 2017 (82 FR 24996) for a 60-day public comment period. The public comment period closed on July 31, 2017. Public comments on DG-1338 and the staff responses to the public comments are available under ADAMS under Accession No. ML17256A103.

III. Congressional Review Act

This RG is a rule as defined in the Congressional Review Act (5 U.S.C. 801-808). However, the Office of Management and Budget has not found it to be a major rule as defined in the Congressional Review Act.

IV. Backfitting and Issue Finality

Revision 1 to RG 1.158 endorses, with certain clarifications, the 2013 revision of IEEE Std. 535 which refines the methods and type-test procedures for two different battery applications. One application is for batteries with duty cycles equal to or less than 8 hours and the other application is for batteries with duty cycles longer than 8 hours. The 2013 revision of IEEE Std. 535 demonstrates and outlines the qualifying process for both applications to ensure battery performance. It also provides a comprehensive document for qualifying batteries with additional normative annexes.

Issuance of Revision 1 to RG 1.158 does not constitute backfitting as defined in 10 CFR 50.109 (the Backfit Rule) and is not otherwise inconsistent with the issue finality provisions in 10 CFR part 52, “Licenses, Certifications and Approvals for Nuclear Power Plants.” The subject of this regulatory guide, as described above, is an NRC-defined process which does not fall within the purview of subjects covered by either the Backfit Rule or the issue finality provisions in 10 CFR part 52.

Dated at Rockville, Maryland, this 6th day of March 2018.
For the Nuclear Regulatory Commission.
Thomas H. Boyce,
Chief, Regulatory Guidance and Generic Issues Branch, Division of Engineering, Office of Nuclear Regulatory Research.

[FR Doc. 2018-04828 Filed 3-9-18; 8:45 am]

BILLING CODE 7590-01-P